DEPARTMENT OF TRANSPORTATION

Surface Transportation Board

30-Day Notice and Request for Comments

AGENCY: Surface Transportation Board, DOT.

ACTION: 30-day notice and request for comments.

SUMMARY: As part of its continuing effort to reduce paperwork burdens, and as required by the Paperwork Reduction Act of 1995, 44 U.S.C. 3501-3519 (PRA), the Surface Transportation Board (Board) gives notice that it is requesting from the Office of Management and Budget (OMB) approval of the information collection—System Diagram Maps—further described below. The Board previously published a notice about this collection in the Federal Register on January 17, 2013, at 78 FR 3968. That notice allowed for a 60-day public review and comment period. No comments were received.

Comments may now be submitted to OMB concerning (1) whether the collection is necessary for the proper performance of the functions of the Board, including whether the collection has practical utility; (2) the accuracy of the Board's burden estimates; (3) ways to enhance the quality, utility, and clarity of the information collected; and (4) ways to minimize the burden of the collection of information on the respondents, including the use of automated collection techniques or other forms of information technology when appropriate. Comments will be summarized and included in the Board's request for OMB approval.

Description of Collection

Title: System Diagram Maps (or, in the case of Class III carriers, the alternative narrative description of rail system).

OMB Control Number: 2140-0003.

Form Number: None.

Type of Review: Extension without change.

Respondents: Common carrier freight railroads that are either new or reporting changes in the status of one or more of their rail lines.

Number of Respondents: 1.

Estimated Time Per Response: 7.1 hours, based on average time reported in informal survey of respondents.

Frequency of Response: 1.

Total Annual Burden Hours: 7.1 hours.

Total Annualized Non-Hourly Cost: $1,305, on average.

Needs and Uses: Under 49 CFR 1152.10-1152.13, all railroads subject to the Board's jurisdiction are required to keep current system diagram maps on file with the Board, although a Class III carrier (a carrier with assets of not more than $34,656,908 in 2011 dollars) may submit the same information in narrative form. The information sought in this collection identifies all lines in a particular railroad's system, categorized to indicate the likelihood that service on a particular line will be abandoned and/or whether service on a line is currently provided under the financial assistance provisions of 49 U.S.C. 10904. Carriers are obligated to amend and update these maps (or narratives) as the line designations change. 49 CFR 1152.13(b). The Board uses this information to facilitate informed decision making, and this information, which is available to the public from the carrier by request, § 1152.12(c)(3), may serve as notice to the shipping public of the carrier's intent to abandon or retain a line.

Deadline: Persons wishing to comment on this information collection should submit comments by April 19, 2013.

ADDRESSES: Written comments should be directed to the Office of Management and Budget, Office of Information and Regulatory Affairs, Attention: Kimberly Nelson, Surface Transportation Board Desk Officer, by fax at (202) 395-5167; by mail at OMB, Room 10235, 725 17th Street NW., Washington, DC 20500; or by email at OIRA_SUBMISSION@OMB.EOP.GOV. When submitting comments, refer to the OMB number and title of the information collection.

FOR FURTHER INFORMATION CONTACT: Marilyn Levitt at (202) 245-0269 or levittm@stb.dot.gov. The regulations governing this collection may be viewed at http://www.ecfr.gov/cgi-bin/text-idx?c=ecfr&rgn=div6&view=text&node=49:8.1.1.2.67.2&idno=49. A copy of the regulations pertaining to this information collection may be obtained by contacting Christine Glaab, STB Librarian at (202) 245-0406 or STBLibrary@stb.dot.gov.

SUPPLEMENTARY INFORMATION: Under the PRA, a Federal agency conducting or sponsoring a collection of information must display a currently valid OMB control number. Collection of information, which is defined in 44 U.S.C. 3502(3) and 5 CFR 1320.3(c), includes agency requirements that persons submit reports, keep records, or provide information to the agency, third parties, or the public. Section 3507(b) of the PRA requires, concurrent with an agency's submitting a collection to OMB for approval, a 30-day notice and comment period through publication in the Federal Register concerning each proposed collection of information, including each proposed extension of an existing collection of information.

Dated: March 15, 2013.
Jeffrey Herzig,
Clearance Clerk.

[FR Doc. 2013-06398 Filed 3-19-13; 8:45 am]

BILLING CODE 4915-01-P